DEPARTMENT OF THE INTERIOR

Bureau of Land Management

[LLORV000.51010000.ER0000.LVRWH09H0480; OROR065375; IDI036029 HAG 14-0196]

Notice of Availability of the Draft Environmental Impact Statement and Land-use Plan Amendments for the Boardman to Hemingway Transmission Line Project

AGENCIES: Bureau of Land Management, Interior.

ACTION: Notice of availability.

SUMMARY: In accordance with the National Environmental Policy Act of 1969, as amended, and the Federal Land Policy and Management Act of 1976, as amended, the Bureau of Land Management (BLM) Vale District Office announces the availability of the Draft Environmental Impact Statement (EIS) and Land-Use Plan Amendments (LUPAs) for the Boardman to Hemingway Transmission Line Project (Project) and by this notice is announcing the opening of the public comment period.

DATES: The Draft EIS is now available for public review. To be considered in the Final EIS, written comments on the Draft EIS must be received within 90 days after the Environmental Protection Agency's publication in the Federal Register of a Notice of Availability (NOA) of this Draft EIS.

All public meetings or other opportunities for public involvement related to the Project will be announced to the public by the BLM at least 15 days in advance through the public Web site at: http://www.boardmantohemingway.com, project mailings, and local media news releases.

ADDRESSES: Copies of the Draft EIS have been sent to affected Federal agencies, state and local governments and public libraries in the Project area. The Draft EIS and supporting documents will be available electronically on the project Web site at: http://www.boardmantohemingway.com. Compact Disc copies of the document are available through request on this project Web site address. A list of locations where copies of the Draft EIS are available for public inspection can be found in the SUPPLEMENTARY INFORMATION section below.

Written comments may be submitted by the following methods:

• email: comment@boardmantohemingway.com

• mail: Boardman to Hemingway Transmission Line Project, P.O. Box 655, Vale, OR 97918

• courier or hand delivery: Bureau of Land Management, Vale District Office, 100 Oregon Street, Vale, OR 97918

• no faxed or anonymous comments will be accepted

FOR FURTHER INFORMATION CONTACT: Tamara Gertsch, BLM National Project Manager, Bureau of Land Management, Vale District Office, 100 Oregon Street, Vale, OR 97918, or by telephone at 307-775-6115. Any persons wishing to be added to the project mailing list of interested parties may write or call Ms. Gertsch at the address and phone number above.

Persons who use telecommunication devices for the deaf may call the Federal Information Relay Service (FIRS) at 307-775-6115 to contact Ms. Gertsch during normal business hours. The FIRS is available 24 hours a day, 7 days a week, to leave a message or questions with the above individual regarding the project. You will receive a reply during normal business hours.

SUPPLEMENTARY INFORMATION: Idaho Power Company submitted applications to the BLM for a right-of-way (ROW) grant, the United States Forest Service (USFS) for a special use authorization, and the U.S. Bureau of Reclamation (Reclamation) for an authorization/permit, to use federal lands for portions of a proposed 300 mile 500-kilovolt (kV) single-circuit, alternating-current transmission line and ancillary facilities between a new or existing substation near Boardman, Oregon, and the Hemingway Substation, near Melba, Idaho. Idaho Power Company filed its applications in December 2007 and then filed revised applications in November 2011 and May 2012 to reflect changes to the proposed action. Idaho Power Company's objective for the Project is to provide additional capacity to connect transmission between the Pacific Northwest and Intermountain Regions in order to alleviate existing transmission constraints and to ensure sufficient capacity that will enable Idaho Power Company to meet present and forecasted load requirements. The Project description includes a rebuild of two separate 138 and 69-kV lines into double circuit monopole structures for short distances. Electrical equipment to connect the 500 kV transmission line would be installed at the endpoint substations. The proposed ROW width is 250 feet for the 500 kV portion of the line and 100 feet for two 138/69 kV rebuild sections of the line. The BLM's purpose and need for action is to respond to Idaho Power Company's ROW application.

The BLM published a Notice of Intent (NOI) to Prepare an EIS on September 12, 2008 (73 FR 52944), and held public scoping meetings in October 2008. On July 27, 2010 (75 FR 44008), the BLM published a revised NOI to Prepare an EIS in response to substantive changes in Idaho Power Company's proposal as submitted in the revised application, and sought public input on the issues associated with the project. The issues brought forward from the scoping comments for analysis in the Draft EIS include:

• Use of Federal versus private property;

• Potential impacts to private agricultural operations and irrigated lands and other existing land use;

• Potential impacts to Greater Sage-grouse;

• Proximity to other protected wildlife and habitats (e.g., fish and water resources, plants, Washington ground squirrel);

• Potential impacts to Department of Defense operations;

• Potential impacts to lands with wilderness characteristics;

• Potential impacts to visual resources, including visual impacts to cultural resources;

• Potential impacts to historic properties (e.g., Oregon Trail) and paleontological resources;

• Native American concerns;

• Potential impacts to air quality;

• Potential impacts of noxious weeds and invasive species;

• Potential Socio-economic impacts;

• Potential health effects from electro-magnetic fields; and

• Noise and potential line interference with electronic devices.

The scoping comments and preliminary alternatives, some of which were eliminated from further consideration are documented and discussed in the Boardman to Hemingway Transmission Project Siting Study Report available online at: http://www.boardmantohemingway.com/documents/B2H_Siting_Study_8-17-10.pdf. The Draft EIS analyzes the environmental consequences of granting a ROW to Idaho Power Company to construct, operate, and maintain, the transmission project. The Draft EIS also analyzes: (1) The consequences of the USFS issuing a special use authorization to construct, operate, and maintain those portions of the transmission line and ancillary facilities located on lands administered by the USFS; and (2) the consequences of amending the USFS's 1990 Land and Resource Management Plan (Forest Plan) necessary to implement the proposed Project (36 CFR 219.13). Depending on the alternative selected, Reclamation and the U.S. Department of the Navy (Navy) may also need to issue authorizations for any route which may cross lands, easements or facilities administered by those agencies. The Draft EIS analyzes the environmental impacts associated with the alternatives that would require Reclamation and Navy authorizations. Additionally, the proposed Project may require BLM and USFS amendments to Resource Management Plans and Forest Plans. As required by 43 CFR 1610.2(c) and 36 CFR 219.8, the BLM and USFS have provided public notices regarding the potential plan amendments through the two NOIs, and this notice. The BLM and USFS analyzed the impacts of the potential plan amendments in the Draft EIS alternatives.

To the extent practicable, the proposed routes were located to within existing West Wide Energy corridors designated pursuant to Section 368 of the Energy Policy Act of 2005 and other federally-designated utility corridors, or were located in parallel existing linear infrastructure, unless precluded by resource or routing constraints or technical infeasibility. Due primarily to private land ownership patterns, particularly in the northern half of the project area, the average land ownership pattern for all the routes is approximately 67 percent private/state land and 33 percent Federal land. A total of 23 Federal, state, and local governmental agencies participated with the BLM in the preparation of this Draft EIS.

The Cooperating agencies include: Bonneville Power Administration; U.S. Army Corps of Engineers; U.S. Bureau of Reclamation; U.S. Environmental Protection Agency; U.S. Fish and Wildlife Service; U.S. Forest Service; U.S. Air Force; U.S. Navy; Idaho Office of Energy Resources; Oregon Department of Energy; Oregon Department of Fish and Wildlife; Morrow, Umatilla, Union, Baker and Malheur Counties, Oregon; Canyon, Payette, and Washington Counties, Idaho; the cities of Boardman, Oregon and Parma, Idaho; Owyhee Irrigation District; and the Joint Committee of the Owyhee Project. The transmission line and ancillary facilities would affect lands in Morrow, Umatilla, Union, Baker, and Malheur Counties in Oregon, and Owyhee County in Idaho.

In addition to the Proposed Action Alternative, the Draft EIS analyzes a No Action Alternative and 12 alternative routes (including a route variation) totaling approximately 550 miles for all routes. For this Draft EIS, the No Action Alternative means that the BLM and other Federal decision-making agencies would not grant or authorize the transmission line and ancillary facilities.

The Proposed Action Alternative for the project extends from the Grassland substation in northeastern Oregon and initially heads west to the Horn Butte Substation and then continues to the south, before turning east on the south side of the Naval Weapons System Training Facility at Boardman, and continuing on a southeasterly path through Morrow, Umatilla, and Union Counties, east of La Grande. The route would continue on a southeasterly path to the northeast of North Powder, before entering Baker County. In Baker County, the route would continue southeast, passing east of Highway 30 and east of Baker City, towards Durkee and staying west of Weatherby. Within Malheur County, the route would then move back to the west towards Brogan and then resume southeasterly heading west of Vale, crossing Highway 20. Continuing to the southeast, the route would leave Oregon and move into southwestern Idaho, Owyhee County, ending at the Hemingway Substation, near Melba, Idaho.

In addition to the Proposed Action, the following alternative routes are identified in the DEIS. The alternatives within Morrow County include two alternative substations Horn Butte (Portland General Electric, under construction) and the Longhorn Substation (Bonneville Power Administration), as well as two route alternatives and a route variation (Horn Butte, Longhorn and the Longhorn Variation). The Horn Butte Alternative provides an opportunity to connect to the Horn Butte Substation and combines with the Proposed Action Alternative. The Longhorn Alternative and Longhorn Variation Route provide an opportunity to connect to the Longhorn Substation and were developed to reduce impacts to the U.S. Department of the Navy military operations areas, the Oregon National Guard, and impacts to irrigated agriculture. Alternatives considered in Union County include the Glass Hill Alternative as well as the Proposed Action (however the Proposed Action more closely follows existing infrastructure). The Baker County alternatives include the Flagstaff, Burnt River Mountain and the Timber Canyon Alternatives, each of which combine with the Proposed Action into five separate alternatives; (all routes with the exception of Timber Canyon are approximately the same length, however the Timber Canyon route is approximately 15 miles longer than the other alternatives). These alternative routes were developed to address visual impacts to Baker City as well as impacts to Greater Sage-Grouse, to parallel existing infrastructure, and to reduce impacts to the National Historic Oregon Trail Interpretative Center as well as to agriculture. At the south end of Baker County and the northern section of Malheur County there are two alternatives in addition to the Proposed Action Alternative. The Willow Creek Alternative was developed to reduce impacts to Greater Sage-Grouse habitat and the Tub Mountain South Alternative was developed to use portions of the West Wide Energy Corridors (WWEC) and further reduce impacts to Greater Sage-Grouse habitat. The Proposed Action then travels southeasterly and connects with three additional alternatives, including the Double Mountain Alternative, a small alternative connected to the Proposed Action that was developed to reduce impacts to agriculture.

The Malheur A Alternative was developed to address use of the existing WWEC and Resource Management Plan corridors and Malheur S was developed to reduce potential impacts to lands with wilderness characteristics and the Owyhee Below the Dam ACEC.

The Agency Preferred Alternative (APA) starts at the north end of the project and includes the Longhorn Substation, the Longhorn Variation, and the Proposed Action route in Morrow County. The APA continues along the Proposed Action route through Umatilla and Union Counties, while within Baker County it includes sections of the Proposed Action route, and the Flagstaff and Burnt River Mountain Alternatives. In Malheur County, the APA route is comprised of the Tub Mountain South Alternative and the Proposed Action. Lastly, within Owyhee County, Idaho, the APA follows the Proposed Action route to the Hemingway Substation. Approximately 47 percent of the APA is within or adjacent to designated corridors (25% of which are West Wide Energy Corridors (WWEC) and 22% non-WWEC designated corridors).

The BLM, in coordination with the other Federal, state, and local government agencies, developed the agency preferred alternative through a comparative evaluation of routing opportunities and constraints and the relative potential impacts among the various alternate routes and route variations.

The BLM, USFS, and other agencies worked together to develop alternative routes that would conform to existing Federal land-use plans. However, this objective was not reached for several of the alternative routes analyzed in the Draft EIS. The agencies identify and analyze proposed plan amendments alternatives in the Draft EIS. Decisions by the USFS to amend land management plans and to authorize special use authorizations are also subject to administrative review (36 CFR part 218 Subparts A and B). In accordance with 36 CFR 219.59, the USFS has elected to use the administrative review procedures of the BLM as described above.

The following land-use plan amendments may be needed to bring the Project into conformance with the applicable Resource Management Plans (RMP) for BLM-managed land and Land and Resource Management Plans (LRMP) for National Forest System land crossed by the Project, depending on Project approval and on the final route selected.

• USFS's Wallowa-Whitman National Forest LRMP: Amendments related to Regional Forester Amendment #2 (i.e., “Eastside Screens”) including removing trees larger than or equal to 21” in diameter. Amendment to allow the Project to exceed prescribed visual quality objectives.

• BLM's Baker RMP: Amendments to Visual Resource Management (VRM) III classification near the National Historic Oregon Trail Interpretative Center.

• BLM's Southeast Oregon RMP: Amendments to VRM II segments across the Owyhee River Canyon (below the Owyhee Dam) and VRM III in limited areas.

• BLM's Owyhee RMP: No required plan amendments.

The BLM will utilize and coordinate the National Environmental Policy Act comment process to satisfy the public involvement process for Section 106 of the National Historic Preservation Act (16 U.S.C. 470(f)), as provided for in 36 CFR 800.2(d)(3). Ongoing consultations with Native American Tribes will continue in accordance with policy and Tribal concerns (including impacts on Indian trust assets) will be given due consideration. Federal, state, and local agencies, along with other stakeholders that may be interested or affected by the BLM's decision on this Project, are invited to participate. Copies of the Draft EIS are available for public inspection during normal business hours at the following locations:

• BLM—Idaho State Office, 1387 South Vinnell Way, Boise, ID

• BLM-Boise District Office, 3948 Development Avenue, Boise, ID

• Boise Public Library, 715 South Capitol Boulevard, Boise, ID,

• BLM-Owyhee Field Office, 201st Avenue West, Marsing, ID

• Owyhee County Planning Department, 17069 Basey Street, Murphy, ID

• Nampa Public Library, 101 11th Avenue South, Nampa, ID

• Baker County Planning Department, 1995 3rd Street, Baker City, OR

• Baker County Library, 2400 Resort Street, Baker City, OR

• BLM-Baker Field Office, 3285 11th Street, Baker City, OR

• Boardman City Library, 200 South Main Street, Boardman, OR

• Harney County Public Library, 80 West D Street, Burns, OR

• Hermiston Public Library, 235 East Gladys Avenue, Hermiston, OR

• Morrow County Planning Department, 205 N.E 3rd Street, Irrigon, OR

• Grant County Library, 507 South Canyon Boulevard, John Day, OR

• La Grande Public Library, 2006 4th Street, La Grande, OR

• Union County Planning Department, 1001 4th Street, Suite C, La Grande, OR

• USFS-Wallowa-Whitman National Forest Office, 3502 Highway 30, La Grande, OR

• USFS-Wallowa-Whitman National Forest, 1550 Dewey Avenue, Baker City, OR

• Pendleton Public Library, 502 SW. Dorion Avenue, Pendleton, OR

• Umatilla County Planning Department, 216 SE. 4th Street, Pendleton, OR

• BLM-Prineville District Office, 3050 NE. 3rd Street, Prineville, OR

• Ontario Library, 388 SW. 2nd Avenue, Ontario, OR

• BLM-Vale District Office, 100 Oregon Street, Vale, OR

• Malheur County Planning Department, 251 B Street, West Vale, OR

• Oregon Dept. of Energy, 625 Marion Street, NE., Salem, OR

• BLM-Oregon State Office, 1220 SW Third Avenue, Portland, OR

• North Powder City Library, 290 East Street, North Powder

Your input is important and will be considered in the environmental and land-use planning analysis processes. The BLM and USFS request that comments be structured to contain sufficient detail to allow the agencies to address them in the Final EIS. The BLM, USFS, and Reclamation will consider all timely filed comments and respond to them in the Final EIS. All comment submissions must include the commenter's name and street address. Comments, including the names and addresses of the commenter, will be available for public inspection at the locations listed above during normal business hours (8:00 a.m. to 4:30 p.m.), Monday through Friday, except Federal holidays.

Before including your address, phone number, email address, or any other personal identifying information in your comment, be advised that your entire comment, including your personal identifying information, may be publicly available at any time. While you may ask us in your comment to withhold from public review your personal identifying information, we cannot guarantee that we will be able to do so.

Jerome E. Perez,
State Director, Oregon/Washington.

[FR Doc. 2014-29770 Filed 12-18-14; 8:45 am]

BILLING CODE 4310-33-P